DEPARTMENT OF THE INTERIOR

Bureau of Land Management

[UT-050-06-1220-P-PM]

Notice of Off-Highway Vehicle (OHV) Travel Restriction for Factory Butte Area, UT

AGENCY: Bureau of Land Management, Interior.

ACTION: Notice of Off-Highway Vehicle (OHV) travel restriction for motorized use in the Factory Butte area, Bureau of Land Management, Richfield Field Office, Utah.

SUMMARY: Notice is hereby given that effective immediately, the Bureau of Land Management (BLM), Richfield Field Office, is restricting OHV travel to designated routes on 142,023 acres of public lands near Caineville, Utah, known as the Factory Butte area. This restriction does not apply to State or private lands located in the area. Within the Factory Butte area 2,602 acres currently designated as open will remain open and 3,843 acres currently designated as closed will remain closed to OHV travel. The restriction to designated routes affects the remaining 142,023 acres of the area located in portions of T. 27 S., R. 6-10 E.; T. 28 S., R. 7-10 E.; T. 29 S., R. 7 & 8 E.; and T. 30 S., R. 7 & 8 E., Salt Lake Meridian. The purpose of the restriction is to protect threatened and endangered species that have been adversely impacted or are at risk of being adversely impacted by OHV use. This restriction will remain in effect until the conditions giving rise to the restriction have been sufficiently addressed or the Richfield Field Office Resource Management Plan that is currently being prepared is signed by the authorized officer and becomes final.

EFFECTIVE DATE: This notice and the OHV restriction are effective immediately.

FOR FURTHER INFORMATION CONTACT: Cornell Christensen, Field Office Manager, BLM Richfield Field Office, 150 East 900 North, Richfield, Utah 84701; Phone 435-896-1500.

SUPPLEMENTARY INFORMATION: In 1982, the Henry Mountains Management Framework Plan (MFP) designated the majority of public lands in the Factory Butte area managed by the BLM's Richfield Field Office as “open” to off-road vehicle (i.e., off-highway vehicle) use. An OHV activity area of 640 acres was identified where intensive OHV use was occurring. However, the surrounding areas were also left open to cross-country OHV use. Since 1982, OHV use has significantly increased throughout the Factory Butte area. Surveys conducted have noted mortality to threatened and endangered plant populations from cross-country OHV use. Based on this information, BLM's authorized officer has determined that OHV use in the area is causing or will cause adverse effects to threatened and endangered plant species. Consequently, OHV use on 142,023 acres in the Factory Butte area is being restricted to designated routes, with 2,602 acres remaining open to cross-country OHV use and 3,843 acres remaining closed. A map showing the affected areas is available for public inspection at the BLM's Richfield Field Office at the above address. This map may be revised in the future based on monitoring of resource conditions and trends in the area. OHV use on the remainder of the public lands administered by BLM's Richfield Field Office will be unchanged and managed according to the existing land use plans. This restriction order applies to all motorized vehicle use with the exception of law enforcement and emergency operations, administrative uses, or other uses authorized by regulations.

Implementation

A map showing the portions of the Factory Butte area affected by this restriction is available for public review at the BLM's Richfield Field Office. The map shows the OHV designations within the area and routes open to OHV travel. The map may be revised in the future based on monitoring of resource conditions and trends. Maps and other appropriate educational information will be posted on kiosks at staging areas. Signs will be posted at strategic entry locations along the boundaries and on the routes designated for use by OHVs.

Authority: This restriction notice is issued under the authority of 43 CFR 8341.2.

Violations of this restriction are punishable by a fine not to exceed $1,000 or imprisonment not to exceed 12 months.

Persons who are administratively exempt from the restrictions contained in this notice include: any Federal, State or local officer or employee acting within the scope of their duties, members of any organized rescue or fire-fighting force in the performance of an official duty, and any person holding written authorization from the BLM.

Dated: July 31, 2006.
Henri R. Bisson,
Field Office Manager.

[FR Doc. 06-7973 Filed 9-19-06; 8:45 am]

BILLING CODE 4310-84-P